DEPARTMENT OF STATE

[Public Notice 8339]

Meeting of the United States-Peru Environmental Affairs Council and Environmental Cooperation Commission

ACTION: Notice of meetings of the United States-Peru Environmental Affairs Council and Environmental Cooperation Commission, and request for comments.

SUMMARY: The Department of State and the Office of the United States Trade Representative (USTR) are providing notice that the United States and Peru intend to hold the fourth meeting of the Environmental Affairs Council (the “Council”) and the third meeting of the Environmental Cooperation Commission (the “Commission”) on June 4th and June 5th, 2013. The public sessions of the Council and Commission meetings will be held on June 5th, starting at 2:00 p.m. at the George C. Marshall Conference Center, U.S. Department of State, 21st Street between Virginia Avenue and C Street NW., Washington, DC. The purpose of the meetings is to review implementation of: Chapter 18 (Environment) of the United States-Peru Trade Promotion Agreement (PTPA) and the United States-Peru Environmental Cooperation Agreement (ECA). The Department of State and USTR invite interested organizations and members of the public to attend the public session and comment on any items that should be included on the meeting agendas. If you would like to attend the public session, please notify Tiffany Prather and Sarah Stewart at the email addresses listed below under the heading ADDRESSES. Please include your full name and any organization or group you represent. In preparing comments, submitters are encouraged to refer to:

• Chapter 18 of the PTPA,

• The Final Environmental Review of the PTPA,

• The ECA, and

• The 2011-2014 Work Program.

These documents are available at: http://www.ustr.gov/trade-agreements/free-trade-agreements/peru-tpa and http://www.state.gov/e/oes/eqt/trade/peru/index.htm.

DATES: The public sessions of the Council and Commission meetings will be held on June 5, 2013, beginning at 2:00 p.m., at the George C. Marshall Conference Center, U.S. Department of State, 21st Street between Virginia Avenue and C Street NW., Washington, DC. Comments and suggestions are requested in writing no later than May 31, 2013.

ADDRESSES: Written comments and suggestions should be submitted to both:

(1) Tiffany Prather, Office of Environmental Quality and Transboundary Issues, U.S. Department of State, by electronic mail at PratherTA@state.gov with the subject line “U.S.-Peru EAC/ECC Meeting”; and

(2) Sarah Stewart, Office of Environment and Natural Resources, Office of the United States Trade Representative, by electronic mail at Sarah_Stewart@ustr.eop.gov with the subject line “U.S.-Peru EAC/ECC Meeting”. If you have access to the Internet, you can view and comment on this notice by going to: http://www.regulations.gov/#!home and searching on docket number: DOS-.

FOR FURTHER INFORMATION CONTACT: Tiffany Prather, Telephone (202) 647- 4548 or Sarah Stewart, Telephone (202) 395-3858.

SUPPLEMENTARY INFORMATION: The PTPA entered into force on February 1, 2009. Article 18.6 of the PTPA establishes an Environmental Affairs Council to discuss the implementation of, and progress under, Chapter 18. The ECA entered into force on August 23, 2009. Article III of the ECA establishes an Environmental Cooperation Commission and makes the Commission responsible for developing a Work Program. Chapter 18 of the PTPA and Article VI of the ECA require that meetings of the Council and Commission respectively include a public session, unless the Parties otherwise agree.

Dated: May 23, 2013.
John Thompson,
Acting Director, Office of Environmental Quality and Transboundary Issues, Department of State.

[FR Doc. 2013-12870 Filed 5-29-13; 8:45 am]

BILLING CODE 4710-09-P